DEPARTMENT OF STATE

[Public Notice: 7022]

Bureau of International Security and Nonproliferation; Lifting of Nonproliferation Measures Against Two Russian Entities

AGENCY: Department of State.

ACTION: Notice.

SUMMARY: A determination has been made, pursuant to Section 6 of Executive Order 12938 of November 14, 1994, as amended, to remove nonproliferation measures on two Russian entities.

DATES: Effective Date: May 21, 2010.

FOR FURTHER INFORMATION CONTACT: Pamela K. Durham, Office of Missile Threat Reduction, Bureau of International Security and Nonproliferation, Department of State (202-647-4930).

SUPPLEMENTARY INFORMATION: Pursuant to the authorities vested in the President by the Constitution and the laws of the United States of America, including the International Emergency Economic Powers Act (50 U.S.C. 1701 et seq.) (“IEEPA”), the National Emergencies Act (50 U.S.C. 1601 et seq.), the Arms Export Control Act (22 U.S.C. 2751 et seq.), and section 301 of title 3, United States Code, and Section 6 of Executive Order 12938 of November 14, 1994, as amended, a determination was made on May 12, 2010, that it is in the foreign policy or national security interests of the United States to remove the restrictions imposed pursuant to Sections 4(b), 4(c), and 4(d) of the Executive Order on the following Russian entities, their sub-units and successors:

1. D. Mendeleyev University of Chemical Technology of Russia

2. Moscow Aviation Institute

These restrictions were imposed on January 8, 1999 (see 64 FR 2935).

Dated: May 17, 2010.
C.S. Eliot Kang,
Acting Assistant Secretary of State for International Security and Nonproliferation, Department of State.

[FR Doc. 2010-12313 Filed 5-20-10; 8:45 am]

BILLING CODE 4710-27-P